DEPARTMENT OF HEALTH AND HUMAN SERVICES

National Institutes of Health

National Institutes of Mental Health; Amended Notice of Meeting

Notice is hereby given of a change in the meeting of the National Advisory Mental Health Council, May 9, 2002, 10:30 a.m. to May 10, 2002, 2 p.m., National Institutes of Health, Building 1, Wilson Hall, 9000 Rockville Pike, Bethesda, MD, 20892 which was published in the Federal Register on April 5, 2002, 67 FR 16413.

The open Policy session day on May 10, 2002, will be held at the National Institutes of Health, 9000 Rockville Pike, Building 31C, Conference Room 6, from 8:30 a.m. until adjournment. The meeting is partially Closed to the public.

Dated: May 9, 2002.
LaVerne Y. Stringfield,
Director, Office of Federal Advisory Committee Policy.

[FR Doc. 02-12222 Filed 5-15-02; 8:45 am]

BILLING CODE 4140-01-M